DEPARTMENT OF ENERGY

Federal Energy Regulatory Commission

[Docket No. CP02-4-002]

Northwest Pipeline Corporation; Notice of Amendment

January 15, 2003.

Take notice that on January 8, 2003, Northwest Pipeline Corporation (Northwest), 295 Chipeta Way, Salt Lake City, Utah, 84158, filed in Docket No. CP02-4-002, an application, pursuant to Section 7(c) of the Natural Gas Act and part 157 of the Federal Energy Regulatory Commission's regulations to amend the certificate of public convenience and necessity issued June 27, 2002, in Docket Nos. CP02-4-000 and -001, for Northwest's Evergreen Expansion project. This application is on file with the Commission and open to public inspection. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659.

Specifically, Northwest requests the Commission to approve: (1) Revised expansion facilities in the State of Washington at the Mt. Vernon, Willard and Roosevelt Compressor Stations, along with eliminating expansion work at the Chehalis Compressor Station which in aggregate will reduce the originally certificated compressor horsepower additions by 3,390 hp without impacting the originally certificated capacity additions; (2) addition of the Lake Tapps line lowering of approximately 270-foot segments of Northwest's existing mainline and mainline loop in Pierce County, Washington, in conjunction with the installation of the originally certificated Auburn Loop; (3) revised levelized, incremental 15-year and 25-year term transportation rates for the Evergreen Expansion shippers, along with an associated one-time revenue crediting provision; (4) a revised initial incremental fuel rate for the Evergreen Expansion shippers, and related revised pro forma tariff provisions; (5) regulatory asset accounting treatment to allow deferred recovery of the depreciation and pretax return attributable to the completion of certain compression facilities three months prior to commencement of the incremental expansion service the facilities are being built to provide; and (6) an up-front determination that the new Lake Tapps line lowering component of the Evergreen Expansion project will qualify for rolled-in rate treatment. Northwest states that the total estimated project cost, as amended, is approximately $240.9 million, compared to the original estimate of $239.8 million.

Northwest states that due to delays in acquiring all the necessary state and local permits and landowner easements, coupled with the need to limit certain construction activities to allowable environmental windows, its current construction schedules anticipate completion of the facilities necessary to provide the contracted incremental service for the Evergreen Expansion shippers by October 1, 2003 (instead of June 1, 2003, as originally anticipated), with the compression-only portion of such facilities to be completed approximately three months earlier. Northwest requests that the Commission issue the requested amended certificate by April 15, 2003, so the proposed expansion facility modifications can be completed within the new construction schedule.

Any questions regarding this application should be directed to Mr. Gary Kotter, Manager, Certificates and Tariffs, Northwest Pipeline Corporation, P.O. Box 58900, Salt Lake City, Utah 84158-0900 or call (801) 584-7117 or Fax (801) 584-7764.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project.

This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

The Commission strongly encourages electronic filings of comments, protests, and interventions via the internet in lieu of paper. See 18 CFR 385.2001(a)(1)(iii) and the instructions on the Commission's Web site under the “e-Filing” link.

If the Commission decides to set the application for a formal hearing before an Administrative Law Judge, the Commission will issue another notice describing that process. At the end of the Commission's review process, a final Commission order approving or denying a certificate will be issued. Comment Date: February 5, 2003.

Magalie R. Salas,
Secretary.

[FR Doc. 03-1722 Filed 1-24-03; 8:45 am]

BILLING CODE 6717-01-P